DEPARTMENT OF JUSTICE

Notice of Lodging of the Proposed Consent Decree Between the United States, The State of Maryland, The Commonwealth of Virginia, Mirant Mid-Atlantic, LLC and Mirant Potomac River, LLC

Notice is hereby given that on Monday, September 27, 2004, a proposed Consent decree (“proposed Decree”) in United States and State of Maryland v. Mirant Mid-Atlantic, LLC and Mirant Potomac River, LLC (“Mirant”), Civil Action No. 1:04CV1136, was lodged with the United States District Court for the Eastern District of Virginia.

In this civil enforcement action under the federal Clean Air Act (“Act”), the United States alleges that in 2003, Mirant, an electric utility, failed to comply with a provision in the Operating Permit for the Potomac River Generating Station that limited that plant's NOX emissions to 1,019 tons of NOX during the ozone season. The complaint seeks both injunctive relief and a civil penalty.

The proposed Decree lodged with the Court addresses this violation at the Potomac river Generating Station (located in Alexandria, Virginia) by requiring relief at that plant, as well as at three other Mirant coal-fired electric generating facilities: the Chalk Point Generating Plant (in Prince George's County, Maryland); the Morgantown Generating Plant (in Charles County, Maryland); and the Dickerson Generating Plant (in Montgomery County, Maryland).

The proposed Decree requires the installation of NOX pollution control equipment at the Potomac River Generating Station and the Morgantown Generating Plant, over a period of several years. In addition, the proposed Decree imposes limitations on the NOX emissions from all four plants that apply both annually and during the ozone season.

The proposed Decree also requires Mirant to implement a series of environmental projects designed to reduce particulate matter emissions from the Potomac River Plant. They are described in the proposed Decree and are valued at about $1 million. In addition, Mirant also will pay a civil penalty of $250,000 to the United States, and a civil penalty of $250,000 to the Commonwealth of Virginia.

Joining in the proposed Decree as co-plaintiffs are the State of Maryland and the Commonwealth of Virginia.

The Department of Justice will receive for a period of thirty (30) days from the date of this publication comments relating to the proposed Decree. Comments should be addressed to the Assistant Attorney General, Environment and Natural Resources Division, PO Box 7611, U.S. Department of Justice, Washington, DC 20044-7611, and should refer to United States v. Mirant Potomac River LLC, Mirant Mid-Atlantic LLC, D.J. Ref. 90-5-2-1-07829.

The proposed Decree may be examined at the offices of the United States Attorney, Eastern District of Virginia, 2100 Jamieson Avenue, Alexandria, Virginia, and at the offices of U.S. EPA Region 3, 1650 Arch Street, Philadelphia, PA 19103-2029.

During the public comment period, the proposed Decree may also be examined on the following Department of Justice Web site, http://www.usdoj.gov/enrd/open.html. A copy of the proposed Decree may also be obtained by mail from the Consent Decree Library, P.O. Box 7611, U.S. Department of Justice, Washington, DC 20044-7611 or by faxing or e-mailing a request to Tonia Fleetwood (tonia.fleetwood@usdoj.gov), fax no. (202) 514-0097, phone confirmation number (202) 514-1547. In requesting a copy from the Consent Decree Library, please enclose a check in the amount of $14.50 (25 cents per page reproduction cost) payable to the U.S. Treasury.

Catherine R. McCabe,
Deputy Section Chief, Environmental Enforcement Section, Environment and Natural Resources Division.

[FR Doc. 04-22524 Filed 10-6-04; 8:45 am]

BILLING CODE 4410-15-M